DEPARTMENT OF ENERGY

Federal Energy Regulatory Commission

Combined Notice of Filings #1

Take notice that the Commission received the following electric corporate filings:

Docket Numbers: EC15-33-000.

Applicants: Macho Springs Power I, LLC.

Description: Application for Authorization under Section 203 of the Federal Power Act and Requests for Waivers, Confidential Treatment, Shortened Comment Period and Expedited Treatment of Macho Springs Power I, LLC.

Filed Date: 11/14/14.

Accession Number: 20141114-5025.

Comments Due: 5 p.m. ET 12/5/14.

Take notice that the Commission received the following electric rate filings:

Docket Numbers: ER10-1789-004; ER10-1768-003; ER10-1793-003; ER10-1770-003; ER10-1771-003; ER12-1250-003.

Applicants: PSEG Energy Resources & Trade LLC, Public Service Electric and Gas Company, PSEG Power Connecticut LLC, PSEG Fossil LLC, PSEG Nuclear LLC, PSEG New Haven LLC.

Description: Notice of Non-Material Change in Status of PSEG Energy Resources & Trade LLC, et al.

Filed Date: 11/13/14.

Accession Number: 20141113-5228.

Comments Due: 5 p.m. ET 12/4/14.

Docket Numbers: ER10-2585-004; ER14-1569-001; ER10-2619-004; ER10-2616-006; ER11-4400-003; ER14-883-002; ER10-2617-004; ER10-2613-004.

Applicants: Casco Bay Energy Company, LLC, Dynegy Energy Services, LLC, Dynegy Kendall Energy, LLC, Dynegy Marketing and Trade, LLC, Illinois Power Marketing Company, Ontelaunee Power Operating Company, LLC, Sithe/Independence Power Partners, L.P., Dynegy Power Marketing, Inc.

Description: Supplement to June 30, 2014 Updated Market Power Analysis of the Dynegy Northeast MBR Sellers.

Filed Date: 11/13/14.

Accession Number: 20141113-5207.

Comments Due: 5 p.m. ET 12/4/14.

Docket Numbers: ER14-717-001.

Applicants: NorthWestern Corporation.

Description: Compliance filing per 35: Response to Deficiency Letter re Order No. 784 Compliance Filing (Montana) to be effective 2/17/2014.

Filed Date: 11/14/14.

Accession Number: 20141114-5022.

Comments Due: 5 p.m. ET 12/5/14.

Docket Numbers: ER14-2551-001.

Applicants: Duke Energy Progress, Inc., Duke Energy Florida, Inc., Duke Energy Carolinas, LLC.

Description: Compliance filing per 35: Errata Filing OATT Order No. 792 to be effective 8/4/2014.

Filed Date: 11/14/14.

Accession Number: 20141114-5041.

Comments Due: 5 p.m. ET 12/5/14.

Docket Numbers: ER15-401-000.

Applicants: Puget Sound Energy, Inc.

Description: § 205(d) rate filing per 35.13(a)(2)(iii): Kittitas NITSA SA No 506 Amendment 1 to be effective 10/1/2014.

Filed Date: 11/13/14.

Accession Number: 20141113-5197.

Comments Due: 5 p.m. ET 12/4/14.

Docket Numbers: ER15-402-000.

Applicants: California Independent System Operator Corporation.

Description: Compliance filing per 35: 2014-11-13_EIM_Waiver to be effective N/A.

Filed Date: 11/13/14.

Accession Number: 20141113-5198.

Comments Due: 5 p.m. ET 11/17/14.

Docket Numbers: ER15-403-000.

Applicants: Puget Sound Energy, Inc.

Description: § 205(d) rate filing per 35.13(a)(2)(iii): Port of Seattle NITSA SA No 484 to be effective 10/1/2014.

Filed Date: 11/14/14.

Accession Number: 20141114-5000.

Comments Due: 5 p.m. ET 12/5/14.

Docket Numbers: ER15-404-000.

Applicants: California Independent System Operator Corporation.

Description: Petition for Approval of Disposition of Proceeds of Penalty Assessments of California Independent System Operator Corporation.

Filed Date: 11/13/14.

Accession Number: 20141113-5225.

Comments Due: 5 p.m. ET 12/4/14.

Docket Numbers: ER15-405-000.

Applicants: Louisville Gas and Electric Company.

Description: § 205(d) rate filing per 35.13(a)(2)(iii): LGE and KU MBR 205 Amendments to be effective 11/15/2014.

Filed Date: 11/14/14.

Accession Number: 20141114-5044.

Comments Due: 5 p.m. ET 12/5/14.

Docket Numbers: ER15-406-000.

Applicants: LG&E Energy Marketing Inc.

Description: § 205(d) rate filing per 35.13(a)(2)(iii): LEM 205 MBR Amendment to be effective 11/15/2014.

Filed Date: 11/14/14.

Accession Number: 20141114-5046.

Comments Due: 5 p.m. ET 12/5/14.

Docket Numbers: ER15-407-000.

Applicants: Southern California Edison Company.

Description: Tariff Withdrawal per 35.15: Notices of Cancellation to IFA & Distribution Service Agmt with Sierra Power to be effective 1/14/2015.

Filed Date: 11/14/14.

Accession Number: 20141114-5052.

Comments Due: 5 p.m. ET 12/5/14.

Docket Numbers: ER15-408-000.

Applicants: AEP Texas North Company.

Description: § 205(d) rate filing per 35.13(a)(2)(iii): TNC-Southwest Texas EC-Golden Spread EC IA to be effective 10/20/2014.

Filed Date: 11/14/14.

Accession Number: 20141114-5070.

Comments Due: 5 p.m. ET 12/5/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2014.
Nathaniel J. Davis, Sr.,
Deputy Secretary.

[FR Doc. 2014-27946 Filed 11-25-14; 8:45 am]

BILLING CODE 6717-01-P